DEPARTMENT OF HEALTH AND HUMAN SERVICES

Youth Empowerment Demonstration Grant Program

AGENCY: Office of Minority Health, Office of Public Health and Science, Office of the Secretary, HHS.

ACTION: Notice.

Announcement Type: Competitive Initial Announcement of Availability of Funds.

Catalog of Federal Domestic Assistance Number: (1) Youth Empowerment Demonstration Grant Program—93.910.

DATES: Application Availability Date: May 16, 2006. Application Deadline: June 15, 2006.

SUMMARY: This announcement is made by the United States Department of Health and Human Services (HHS or Department), Office of Minority Health (OMH) located within the Office of Public Health and Science (OPHS), and working in a “One-Department” approach collaboratively with participating HHS agencies and programs (entities). The mission of the OMH is to improve the health of racial and ethnic minority populations through the development of policies and programs that address disparities and gaps. OMH serves as the focal point in the HHS for leadership, policy development and coordination, service demonstrations, information exchange, coalition and partnership building, and related efforts to address the health needs of racial and ethnic minorities.

As part of a continuing HHS effort to improve the health and well being of racial and ethnic minorities, the Department announces availability of FY 2006 funding for the Youth Empowerment Demonstration Grant Program (“Youth Empowerment Program”). Violence among children and adolescents continues to be a public health concern. In 2002, more than 877,700 young people ages 10 to 24 were injured from violent acts.¹ For this same age group, homicide is the second leading cause of death over-all: the leading cause of death for African-Americans, the second leading cause of death for Hispanics, and the third leading cause of death for American Indians, Alaskan Natives, and Asian Pacific Islanders.² Suicide is the third leading cause of death among young people ages 15-24, with American Indian and Alaskan Natives having the highest rate of suicide in this age group.³ During the hours immediately after school, teens are more likely to commit violent crimes and to be the victims of violence than at any other time. For teens ages 12 to 17, this risk peaks at 3 p.m.⁴ Other behaviors that contribute to placing youth at risk for unhealthy lifestyles, including violence, include tobacco use; alcohol and other drug use; sexual behaviors that contribute to unintended pregnancy and sexually transmitted diseases, including HIV infection; unhealthy dietary habits; and physical inactivity.⁵ Data suggest that helping young people to achieve their full potential is the best way to prevent them from engaging in risky behaviors. The Youth Empowerment Program provides targeted youth safe places with organized activities, opportunities to use their time positively, academic enrichment, mentoring relationships with young adult role models, career exposure, opportunities to engage in community service, information and guidance on embracing healthy choices and lifestyles, and ongoing interaction with the community.

¹ Youth Violence: Fact Sheet, retrieved October 7, 2005 from the Centers for Disease Control and Prevention, National Center for Injury Prevention and Control Web Site: http://www.cdc.gov/ncipc/factsheets/yvfacts.

² Ibid.

³ Suicide: Fact Sheet, retrieved October 15, 2005 from the Centers for Disease Control and Prevention, National Center for Injury Prevention and Control Web Site: http://www.cdc.gov/ncipc/factsheets/yvfacts.

⁴ After School Programs, retrieved October 7, 2005 from the National Youth Violence Prevention Resource Center Web site: http://www.safeyouth.org/scripts/teens/after.

⁵ Morbidity and Mortality Weekly Report, May 21, 2004, Vol. 53, retrieved January 31, 2006 from the Centers for Disease Control and Prevention Web Site: http://www.cdc.gov/mmwr.

SUPPLEMENTARY INFORMATION:

Table of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address To Request Application Package

2. Content and Form of Application Submission

3. Submission Dates and Time

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Healthy People 2010

2. Definitions

Section I. Funding Opportunity Description

Authority: This program is authorized under 42 U.S.C. § 300 u-6, section 1707 of the Public Health Service Act, as amended.

1. Purpose: The Youth Empowerment Program is designed to address unhealthy behaviors in at-risk minority (see definition of “minority populations”) youth, and provide them opportunities to learn more positive life styles and enhance their capacity to make healthier life choices. It is intended to test community-based interventions on reducing risky behaviors among targeted minority youth. These demonstration grants require a multi-partner approach involving institutions of higher education, primary and secondary schools, community organizations and institutions, and the community at-large.

2. OMH Expectations: Among the cohort group of at-risk minority youth, it is intended that the Youth Empowerment Program will result in:

Reduction in high risk behaviors.

Strengthening of protective/resiliency factors.

Development of skills and behaviors that lead to healthier lifestyle choices.

3. Applicant Project Results: Applicants must identify anticipated project results that are consistent with the overall Youth Empowerment Program purpose and OMH expectations. Project results should fall within the following general categories:

Mobilizing Communities and Partnerships

Increasing Knowledge and Awareness

Changing Behavior

The outcomes of these projects will be used to develop other national efforts to address unhealthy behaviors of minority youth.

4. Project Requirements: Each applicant under the Youth Empowerment Program must:

Involve at least three formal partnerships, one of which must be with a primary or secondary school. Other partners could come from the following: Youth organizations (e.g., Boys and Girls Clubs), social service agencies, health/mental health agencies, faith and community-based organizations, community groups, the business community, and federally supported youth programs, including those funded through the Administration for Children and Families, Indian Health Service, and Department of Justice.

Identify the minority youth population who are at-risk of being involved in, committing or being the target of violent, abusive or other unhealthy behaviors.

Recruit and select a minimum of 25 youth, grades 3 through 10, from the target population to participate in each of the 3 years of the project as a cohort group.

Establish a Youth Center to provide services to the cohort. The Center must be established on physical site within a 10-mile radius to the target community to facilitate access to the program's services/activities on a consistent basis. (The Center can be located at the grantee institution or at a facility of one of the partner organizations.) Youth Centers established on American Indian reservations are exempted from the mileage limitation. The Center must be open year round, with activities/services offered at various times (e.g., weekdays, evening, weekends) to accommodate the cohort.

Conduct a comprehensive program of support and education for the cohort in the areas of academic enrichment, personal development and wellness, cultural enrichment, and career development. Activities must be provided for a minimum of 4 hours per week throughout the year. Additionally, summer activities must include a program of at least 3 weeks duration.

Offer opportunities for students to participate in activities or events on campus.

Involve undergraduate students from the applicant organization as mentors, tutors, role models, etc.

Involve parents in activities to promote their understanding of risk and protective factors and foster enhanced interaction with their children.

Establish an Advisory Board comprised of five to nine individuals representative of the target community and partner organizations to provide advice and guidance on program implementation, design and direction. The membership must include a primary/secondary school educator or administrator, a parent, and an undergraduate student involved in programming. Other members could come from such areas as law enforcement, juvenile justice system, behavioral health, social services, and faith and community-based organizations.

A signed Memorandum of Agreement (MOA) between the applicant organization and each partner organization must be submitted with the application. Each MOA must clearly detail the roles and resources (including in-kind) that each entity will bring to the project; state the duration and terms of the agreement; cover the entire project period; and be signed by an individual with the authority to represent the organization.

Section II. Award Information

Estimated Funds Available for Competition: $5,800,000 in FY 2006.

Anticipated Number of Awards: 23-29.

Range of Awards: $200,000 to $250,000 per year.

Anticipated Start Date: September 1, 2006.

Period of Performance: 3 Years (September 1, 2006 to August 31, 2009).

Budget Period Length: 12 months.

Type of Award: Grant.

Type of Application Accepted: New.

Section III. Eligibility Information

1. Eligible Applicants

To qualify for funding, an applicant must be:

(1) A four-year undergraduate with a documented history of working in minority communities; or

(2) A Tribal College.

This is a limited competition. To qualify for funding, an applicant must be an institute of higher education, as described above.

The organization submitting the application will:

Serve as the lead agency for the project, responsible for its implementation and management; and

Serve as the fiscal agent for the Federal grant awarded.

2. Cost Sharing or Matching

Matching funds are not required for the Youth Empowerment Program.

3. Other

This limited competition is based on the need for involvement of post-secondary schools in educating, coordinating interventions, and motivating minority students from underserved areas to develop those skills and characteristics that will lead to positive life styles, reduce risk for involvement in violence and other unhealthy behaviors, and, potentially, pursue careers that will lead to the expansion of the minority healthcare work force. Institutions of higher education with a history of serving minority communities are best situated to access the target population; succeed in coordinating efforts involving the collaboration of a wide variety of organizations, including primary and secondary schools, community organizations and institutions, and the community at-large; design, carry out and evaluate evidence-based activities of an educational nature with the target population; and insure the involvement of enrolled undergraduates, who are pursuing careers in health and social services, as mentors and role models for students from targeted minority neighborhoods, a key factor in ensuring success of these students. At the college level, these schools have greater access to a wealth of resources to design and guide the execution of such programs than would be expected from individual schools and community groups. In addition, they are in the best position to educate advisory board members, collaborating organizations, and other key stakeholders as to the root causes of violence and other unhealthy behaviors, and to understand their critical roles in addressing these issues.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

A college/university may submit no more that one application to the Youth Empowerment Program. Those institutions submitting more than one proposal for this grant program will be deemed ineligible, and the proposals will be returned without comment. Colleges/universities are not eligible to receive funding from more than one OMH grant program to carry out the same project and/or activities.

Section IV. Application and Submission Information

1. Address To Request Application Package

Application kits may be obtained at http://www.omhrc.gov or by writing to the Office of Grants Management, OPHS, Tower Building, 1101 Wootton Parkway, Suite 550, Rockville, MD 20852; or contact the Office of Grants Management at (240) 453-8822. Application kits may also be requested by fax at (240) 453-8823. Please specify the program name, Youth Empowerment Program, when requesting an application kit.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to 75 pages double-spaced. For those institutions that previously received funding under the OMH-supported Family and Community Violence Prevention Program (“FCVP”), in addition to the project narrative, you must attach a report on the FCVP Program and its results. This report is limited to 15 pages double-spaced, which do not count against the page limitation.

The narrative must be printed on one side of 8½ by 11 inch white paper, with one inch margins, double-spaced and 12-point font. All pages must be numbered sequentially including any appendices. (Do not use decimals or letters, such as: 1.3 or 2A.) Do not staple or bind the application package.

The narrative description of the project must contain the following, in the order presented:

Table of Contents.

Project Summary: Describe key aspects of the Background, Objectives, Program Plan, and Tracking and Evaluation Plan. The summary is limited to 5 pages. Background:

Statement of Need: Describe the youth at-risk to be targeted by the Youth Empowerment Program project, and the magnitude of the problem of violence, abuse, or other unhealthy behaviors on this population. In describing the problem or the need for the Youth Empowerment Program project, each applicant should clearly describe the risk factors faced by targeted youth and how the proposed protective factors will guard against and/or impact these risk factors. Provide a rationale for the approach, supported with data from the local area (national, regional and state data may be used to put the local problem in context). Identify partner organizations and provide the rationale for including them in the project.

Experience: Describe any similar projects implemented to work with issues of abuse, violence and other unhealthy behaviors, and the results of these efforts. (For those institutions that previously received funding under the OMH-supported Family and Community Violence Prevention Program, you must attach a report on that specific project and its results.) Discuss the applicant organization's experience in managing projects/activities, especially those targeting the population to be served. Indicate where the project will be located within the college/university structure and the reporting channel. Provide a chart of the proposed project's organizational structure, showing who will report to whom. Describe how the partner organizations will interface with the applicant organization.

Objectives: Provide an objective for each of the required program areas (i.e., academic enrichment, personal development and wellness, cultural enrichment, and career development). State objectives in terms of proposed measurable improvement, including time frames for achievement for the three-year project period.

Program Plan: Describe the target population of at-risk youth to be served. Describe specific activities and strategies planned to address the identified risk factors and achieve each objective. Include the role of partner organizations and undergraduate students. Describe recruitment and selection criteria for the cohort group, and plans for replacing any members who drop out over the course of the three-year project.

For each activity, describe how, when, where, by whom, and for whom the activity will be conducted. Activities must be conducted in the areas of academic enrichment, personal development and wellness, cultural enrichment, and career development of youth.

Academic Enrichment are those activities designed to improve academic skills (e.g., math, reading, science, note taking, time management, and test taking) which will facilitate students' progression through school.

Personal Development and Wellness are activities designed to promote and enhance positive self concepts and healthy lifestyles, including physical activity, offer students safe and positive alternatives for use of free time, develop interpersonal skills, and improve family relations and stability.

Cultural Enrichment are those activities designed to expose students to a variety of cultural experiences to promote understanding and appreciation of diverse cultures, and promote awareness of their heritage.

Career Development are those activities designed to expose individuals to a variety of career options, including health and biomedical careers, and impart information on the preparatory activities necessary for such careers.

Provide a description of the proposed program staff, including resumes and job descriptions for key staff, qualifications and responsibilities of each staff member, and percent of time each will commit to the project. Provide a description of duties for any proposed consultants. Describe any products to be developed by the project. Provide a time line for each of the three years of the project.

Tracking and Evaluation Plan: Describe the plan for tracking the participants through each educational milestone (e.g., middle school, high school, college). Clearly delineate how program activities will be evaluated. The evaluation plan must be able to produce documented results that demonstrate whether and how the strategies and activities funded under the Program: (1) Made a difference in positively impacting the incidences of violent, abusive and/or unhealthy behavior in the target population and (2) affected lifestyles choices. The plan must identify the expected results for each objective. The description must include data collection and analysis methods, demographic data to be collected on project participants, process measures which describe indicators to be used to monitor and measure progress toward achieving projected results, outcome measures to show the project has accomplished planned activities, and impact measures that demonstrate achievement of the objectives.

Discuss plans and describe the vehicle (e.g., manual, CD), that will be used to document the steps which others may follow to replicate the proposed project in similar communities. Describe plans for disseminating project results to other communities and schools.

Appendices: Include MOAs and other relevant information in this section.

If applicable, attach a report on the project and outcomes supported under the Family and Community Violence Prevention Program (does not count against page limitation).

In addition to the project narrative, the application must contain a detailed budget justification which includes a narrative explanation and indicates the computation of expenditures for each year for which grant support is requested. The budget request must include funds for key project staff to attend two annual OMH grantee meetings. (The budget justification does not count toward the page limitation.)

B. Data Universal Numbering System Number (DUNS)

Applications must have a Dun & Bradstreet (D&B) Data Universal Numbering System number as the universal identifier when applying for Federal grants. The D&B number can be obtained by calling (866) 705-5711 or through the web site at http://www.dnb.com/us/.

3. Submission Dates and Times

Application Deadline Date: June 15, 2006.

Submission Mechanisms

The Office of Public Health and Science provides multiple mechanisms for the submission of applications, as described in the following sections. Applicants will receive notification via mail from the Office of Grants Management, OPHS, confirming the receipt of applications submitted using any of these mechanisms. Applications submitted after the deadline described below will not be accepted for review. Applications that do not conform to the requirements of the grant announcement will not be accepted for review and will be returned to the applicant.

You may submit your application in either electronic or paper format.

To submit an application electronically, use either the OPHS eGrants Web site, https://egrants.osophs.dhhs.gov or the Grants.gov Web site, http://www.Grants.gov/. OMH will not accept grant applications via any other means of electronic communication, including e-mail or facsimile transmission.

Electronic Submission

If you choose to submit your application electronically, please note the following:

Electronic submission is voluntary, but strongly encouraged. You will not receive additional point value because you submit a grant application in electronic format, nor will you be penalized if you submit an application in paper format.

The electronic application for this program may be accessed on https://egrants.osophs.dhhs.gov (eGrants) or on http://www.grants.gov/ (Grants.gov). If using Grants.gov, you must search for the downloadable application package by the CFDA number (93.910).

When you enter the eGrants or the Grants.gov sites, you will find information about submitting an application electronically, as well as the hours of operation. We strongly recommend that you do not wait until the deadline date to begin the application process. Visit eGrants or Grants.gov at least 30 days prior to filing your application to fully understand the process and requirements. Grants.gov requires organizations to successfully complete a registration process prior to submission of an application. The body of the application and required forms can be submitted electronically using either system. Electronic submissions must contain all forms required by the application kit, as well as the Program Narrative, Budget Narrative, and any appendices or exhibits. Applicants using eGrants are also required to submit, by mail, a hard copy of the face page (SF-424) with the original signature of an individual authorized to act for the applicant agency or organization and to assume for the organization the obligations imposed by the terms and conditions of the grant award. (Applicants using Grants.gov are not required to submit a hard copy of the SF-424, as Grants.gov uses digital signature technology.) If required, applicants using eGrants may also need to submit a hard copy of SF LLL, and/or certain program related forms (e.g., Program certifications) with original signatures.

Any other hard copy materials, or documents requiring signature, must also be submitted via mail. Mail-in items may only include publications, resumes, or organizational documentation. (If applying via eGrants, the applicant must identify the mail-in items on the Application Checklist at the time of electronic submission.) The application will not be considered complete until both the electronic application components and any hard copy materials or original signatures are received. All mailed items must be received by the Office of Grants Management, OPHS by the deadline specified below.

Your application must comply with any page limitation requirements described in this program announcement.

We strongly encourage you to submit your electronic application well before the closing date and time so that if difficulties are encountered you can still send in a hard copy overnight. If you encounter difficulties, please contact the eGrants Help Desk at 1-301-231-9898 x142 (egrants-help@osophs,dhhs.gov), or the Grants.gov Help Desk at 1-800-518-4276 (support@grants.gov) to report the problem and obtain assistance with the system.

Upon successful submission via eGrants, you will receive a confirmation page indicating the date and time (Eastern Time) of the electronic application submission. The confirmation will also provide a listing of all items that constitute the final application submission including all electronic application components, required hard copy original signatures, and mail-in items, as well as the mailing address of the Office of Grants Management, OPHS, where all required hard copy materials must be submitted and received by the deadline specified below. As items are received by that office, the application status will be updated to reflect their receipt. Applicants are advised to monitor the status of their applications in the OPHS eGrants system to ensure that all signatures and mail-in items are received.

Upon successful submission via Grants.gov, you will receive a confirmation page indicating the date and time (Eastern Time) of the electronic application submission, as well as the Grants.gov Receipt Number. It is critical that you print and retain this confirmation for their records, as well as a copy of the entire application package. Applications submitted via Grants.gov also undergo a validation process. Once the application is successfully validated by Grants.gov, you will again be notified and should immediately mail all required hard copy materials to the Office of Grants Management, OPHS, to be received by the deadline specified below. It is critical that you clearly identify the Organization name and Grants.gov Application Receipt Number on all hard copy materials. Validated applications will be electronically transferred to the OPHS eGrants system for processing. Any applications deemed “Invalid” by Grants.gov will not be transferred to the eGrants system. OPHS has no responsibility for any application that is not validated and transferred to OPHS from Grants.gov.Electronic grant application submissions must be submitted no later than 5 p.m. Eastern Time on June 15, 2006. All required hard copy original signatures and mail-in items must be received by the Office of Grants Management, OPHS, no later than 5 p.m. Eastern Time on the next business day after the deadline.

Mailed or Hand-Delivered Hard Copy Applications

Applicants who submit applications in hard copy (via mail or hand-delivered) are required to submit an original and two copies of the complete application. The original application must be signed by an individual authorized to act for the applicant agency or organization and to assume for the organization the obligations imposed by the terms and conditions of the grant award. The original and each of the two copies must include all required forms, certifications, assurances, and appendices.

Mailed or hand-delivered applications will be considered as meeting the deadline if they are received by the Office of Grants Management, OPHS, on or before 5 p.m. Eastern Time on June 15, 2006. The application deadline date requirement specified in this announcement supersedes the instructions in the OPHS-1. Applications that do not meet the deadline will be returned to the applicant unread.

For applications submitted in hard copy, send an original, signed in blue ink, and two copies of the complete application to: Ms. Karen Campbell, Director, OPHS Office of Grants Management, 1101 Wootton Parkway, Suite 550, Rockville, MD 20852. Required hard copy mail-in items should be sent to this same address.

4. Intergovernmental Review

The Youth Empowerment Program is subject to requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omh/grants/spoc/html. Applicants should contact their SPOC as early as possible to alert them to the prospective applications and receive any necessary instruction on the State process. The due date for State process recommendations is 60 days after the application deadlines established by the OPHS Grants Management Officer. The OMH does not guarantee that it will accommodate or explain its responses to State process recommendations received after that date. (See “Intergovernmental Review of Federal Programs,” Executive Order 12372, and 45 CFR part 100 for a description of the review process and requirements.)

5. Funding Restrictions

Budget Request: If funding is requested in an amount greater than the ceiling of the award range, the application will be considered non-responsive and will not be entered into the review process. The application will be returned with notification that it did not meet the submission requirements.

Grants funds may be used to cover costs of:

Personnel.

Consultants.

Equipment.

Supplies.

Grant-related travel (domestic only), including attendance at two OMH grantee meetings per year.

Other grant-related costs.

Grants funds may not be used for:

Building alterations or renovations.

Construction.

Fund raising activities.

Job training.

Medical care, treatment or therapy.

Political education and lobbying.

Research studies involving human subjects.

Vocational rehabilitation.

Guidance for completing the budget can be found in the Program Guidelines, which are included with the complete application kit.

Section V. Application Review Information

1. Criteria

The technical review of the Youth Empowerment Program applications will consider the following four generic factors listed, in descending order of weight.

A. Factor 1: Program Plan (40%)

Appropriateness of proposed approach and specific activities for each objective. Logic and sequencing of the planned approaches as they relate to the statement of need and to the objectives.

Soundness of proposed partnerships (e.g., primary and secondary schools, community organizations) and their roles in the program.

Involvement of appropriate undergraduate students in carrying out program activities. Appropriateness of the activities for each of the three years for the targeted age group, and identified risk factors.

Applicant's capability to manage and evaluate the project as determined by:

Qualifications and appropriateness of proposed staff or requirements for “to be hired” staff and consultants.

Proposed staff level of effort.

Management experience of the applicant.

The applicant's organizational structure and proposed project organizational structure.

Appropriateness of defined roles including staff reporting channels and that of any proposed consultants.

Clear lines of authority among the proposed staff within and between participating organizations.

B. Factor 2: Tracking and Evaluation Plan (25%)

The degree to which expected results are appropriate for objectives and activities.

Appropriateness of the proposed data collection plan (including demographic data to be collected on project participants), analysis and reporting procedures.

Soundness of the plan to track program participants.

Suitability of process, outcome, and impact measures.

Clarity of the intent and plans to assess and document progress towards achieving objectives, planned activities, and intended outcomes.

Potential for the proposed project to impact violent, abusive and/or unhealthy behaviors of the target population.

Soundness of the plan to document the project for replicability in similar communities.

Soundness of the plan to disseminate project results.

C. Factor 3: Background (20%)

Demonstrated knowledge of the problem, including factors that place youth at risk, at the local level.

Significance and prevalence of violence, abuse and other unhealthy behaviors in the proposed community and target population.

Extent to which the applicant demonstrates access to the target community(ies), and whether it is well positioned and accepted within the community(ies) to be served.

Extent and documented outcome of past efforts and activities with the target population.

Extent and documented outcome(s) of activities conducted under the OMH-supported Family and Community Violence Program, if applicable.

D. Factor 4: Objectives (15%)

Merit of the objectives for each of the four required program areas (i.e., academic enrichment, personal development and wellness, cultural enrichment, and career development).

Relevance to the OMH Program, purpose and expectations, and to the applicant's stated problem.

Attainability of the objectives in the stated time frames.

2. Review and Selection Process

Accepted Youth Empowerment Program applications will be reviewed for technical merit in accordance with PHS policies. Applications will be evaluated by an Objective Review Committee (ORC). Committee members are chosen for their expertise in minority health and health disparities, and their understanding of the unique health problems and related issues confronted by the racial and ethnic minority populations in the United States. Funding decisions will be determined by the Deputy Assistant Secretary for Minority Health who will take under consideration:

The recommendations and ratings of the ORC.

Geographic distribution of applicants.

Racial/ethnic distribution of targeted audience.

3. Anticipated Award Date

September 1, 2006.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR 74.51-74.52, with the excepting of State and local governments to which 45 CFR part 92, subpart C reporting requirements apply.

Uniform Data Set: The Uniform Data Set (UDS) is a web-based system used by OMH grantees to electronically report progress data to OMH. It allows OMH to more clearly and systematically link grant activities to OMH-wide goals and objectives, and document programming impacts and results. All OMH grantees are required to report program information via the UDS (http://www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For questions on budget and business aspects for the application, contact the Mr. DeWayne Wynn, Grants Management Specialist, OPHS Office of Grants Management, Tower Building, 1101 Wootton Parkway, Suite 550, Rockville, MD 20852. Mr. Wynn can be reached by telephone at (240) 453-8822; or by e-mail at dwynn@osophs.dhh.gov.

For questions related to the Youth Empowerment Program or assistance in preparing a grant proposal, contact Ms. Cynthia Amis, Director, Division of Program Operations, Office of Minority Health, Tower Building, Suite 600, 1101 Wootton Parkway, Rockville, MD 20852. Ms. Amis can be reached by telephone at (240) 453-8444; or by e-mail at camis@osophs.dhhs.gov.

For additional technical assistance, contact the OMH Regional Minority Health Consultant for your region listed in your grant application kit.

For health information, call the OMH Resource Center (OMHRC) at 1-800-444-6472.

Section VIII. Other Information

1. Healthy People 2010

The Public Health Service (PHS) is committed to achieving the health promoting and disease prevention objectives of Healthy People 2010, a PHS-led national activity announced in January 2000 to eliminate health disparities and improve years and quality of life. More information may be found on the Healthy People 2010 Web site: http://www.healthypeople.gov and copies of the documents may be downloaded. Copies of the Healthy People 2010: Volumes I and II can be purchased by calling (202) 512-1800 (cost $70.00 for printed version; $20.00 for CD-ROM). Another reference is the Healthy People 2010 Final Review-2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. Definitions

For purposes of this announcement, the following definitions apply:

Minority Populations—American Indian and Alaska Native, Asian, Black or African American, Hispanic or Latino, and Native Hawaiian or Other Pacific Islander (42 U.S.C. 300u-6, section 1707 of the Public Service Act, as amended).

Protective Factors—Those factors that potentially decrease the likelihood of engaging in a risk behavior. (Risk and Protective Factors for Youth Violence Fact Sheet, retrieved November 15, 2005 from the National Youth Violence Prevention Resource Center Web Site: http://www.safeyouth.org)

Risk Factors—scientifically established factors or determinants for which there is strong objective evidence of a causal relationship to a problem. (Risk and Protective Factors for Youth Violence Fact Sheet, retrieved November 15, 2005 from the National Youth Violence Prevention Resource Center Web Site: http://www.safeyouth.org)

Tribal College or University (TCU)—One of the institutions cited in section 532 of the Equity in Education Land-Grants Status Acts of 1994 (U.S.C. 301 note) or that qualify for funding under the Tribally Controlled Community College Assistance Act of 1978, (25 U.S.C. 1801 et seq.), and Navajo Community College, authorized in the Navajo Community College Assistance Act of 1978, Public Law 95-471, Title II (25 U.S.C. 640a note).

Dated: May 9, 2006.
Mirtha R. Beadle,
Deputy Director, Office of Minority Health.

[FR Doc. E6-7447 Filed 5-15-06; 8:45 am]

BILLING CODE 4150-29-P